DEPARTMENT OF COMMERCE

National Oceanic and Atmospheric Administration

RIN 0648-XD209

Fisheries of the South Atlantic; South Atlantic Fishery Management Council; Public Meeting

AGENCY: National Marine Fisheries Service (NMFS), National Oceanic and Atmospheric Administration (NOAA), Commerce.

ACTION: Notice of workshop and meetings.

SUMMARY: The South Atlantic Fishery Management Council (SAFMC) will hold a meeting of its Scientific and Statistical Committee (SSC) and Social and Economic Sciences Panel (SEP). See SUPPLEMENTARY INFORMATION.

DATES: The SSC will hold an assessment planning workshop and a meeting from 1 p.m. on Monday, April 28, 2014 until 2 p.m. on Thursday, May 1, 2014. The SEP will meet from 12 noon until 4 p.m. on Monday, April 28, 2014.

ADDRESSES: Meeting address: The meetings and workshop will be held at the Crowne Plaza Airport Hotel, 4831 Tanger Outlet Boulevard, North, Charleston, SC 29418; telephone: (877) 227-6963 or (843) 744-4422; fax: (843) 744-4472.

Council address: South Atlantic Fishery Management Council, 4055 Faber Place Drive, Suite 201, N. Charleston, SC 29405.

FOR FURTHER INFORMATION CONTACT: Kim Iverson, Public Information Officer, 4055 Faber Place Drive, Suite 201, North Charleston, SC 29405; telephone: (843) 571-4366 or toll free (866) SAFMC-10; fax: (843) 769-4520; email: kim.iverson@safmc.net.

SUPPLEMENTARY INFORMATION: The items of discussion in the individual meeting agendas are as follows:

SSC Assessment Planning Workshop, 1 p.m. on Monday, April 28, 2014 until 12 noon on Tuesday, April 29, 2014

1. Review assessment priorities, prioritization approaches and scheduling considerations.

2. Consider long term assessment priorities and scheduling.

SEP Meeting, Monday, April 28, 2014, 12 noon until 4 p.m.

1. Review Fishery Management Plans (FMPs) including: Dolphin-Wahoo Amendment 7; Snapper Grouper Amendment 33; Generic Accountability and Dolphin Allocation Amendment; and Coastal-Migratory Pelagics Amendment 24.

2. Review economic analysis and allocations methods and data availability.

3. Consider research needs.

SSC Meeting, 1 p.m. on Tuesday, April 29, 2014 until 2 p.m. on Thursday, May 1, 2014

1. Receive an update on recent Southeast Data, Assessment and Review (SEDAR) activities.

2. Receive a report on the Assessment Planning Workshop and recommend future assessment priorities.

4. Receive a report from the SEP meeting.

5. Review stock assessments of Gag Grouper, Snowy Grouper, and Wreckfish and develop fishing level recommendations.

6. Review the SAFMC Peer Review Process.

7. Review stock projections of Blueline Tilefish and provide fishing level recommendations.

8. Review SAFMC annual research priorities.

9. Receive an update on the MRIP program.

10. Review FMPs including: Dolphin-Wahoo Amendment 7; Snapper Grouper Amendments 29 and 33; Generic Accountability and Dolphin Allocation Amendment; and Coastal-Migratory Pelagics Amendment 24.

11. Receive a report from on evaluation of the Oculina closed area.

12. Receive a report on fishery dependent sampling efforts in 2013.

13. Receive updates and progress reports on other ongoing projects and FMP amendments.

Although non-emergency issues not contained in this agenda may come before this group for discussion, those issues may not be the subject of formal action during these meetings. Action will be restricted to those issues specifically identified in this notice and any issues arising after publication of this notice that require emergency action under section 305(c) of the Magnuson-Stevens Fishery Conservation and Management Act, provided the public has been notified of the intent to take final action to address the emergency.

Written comment on SSC agenda topics is to be distributed to the Committee through the Council office, similar to all other briefing materials. Written comment to be considered by the SSC shall be provided to the Council office no later than one week prior to an SSC meeting. For this meeting, the deadline for submission of written comment is 12 noon on Tuesday, April 22, 2014. Two opportunities for comment on agenda items will be provided during SSC meetings and noted on the agenda. The first will be at the beginning of the meeting, and the second near the conclusion, when the SSC reviews its recommendations.

Special Accommodations

These meetings are accessible to people with disabilities. Requests for auxiliary aids should be directed to the SAFMC office (see ADDRESSES) at least 10 business days prior to the meeting.

Note: The times and sequence specified in this agenda are subject to change.

Authority: 16 U.S.C. 1801 et seq.

Dated: March 25, 2014.
Tracey L. Thompson,
Acting Deputy Director, Office of Sustainable Fisheries, National Marine Fisheries Service.

[FR Doc. 2014-06944 Filed 3-27-14; 8:45 am]

BILLING CODE 3510-22-P